DEPARTMENT OF ENERGY

Federal Energy Regulatory Commission

[Project No. 3265-004]

New Hampshire Water Resource Board and Steels Pond Hydro, Inc., New Hampshire Water Resource Board and Steels Pond Hydro LLC; Notice of Partial Transfer of Exemption

1. By letter filed July 8, 2024, Steels Pond Hydro, Inc. and Steels Pond Hydro LLC informed the Commission that the exemption from licensing for the Steels Pond Project No. 3265, originally issued October 18, 1983,¹ has been partially transferred to Steels Pond Hydro LLC. The project is located on the North Branch of the Contoocook River in Hillsborough County, New Hampshire. The transfer of an exemption does not require Commission approval.

¹ New Hampshire Water Resource Board and Steels Pond Hydro, Inc., 25 FERC ¶ 62,055 (1983) (Order Granting Exemption from Licensing of a Small Hydroelectric Project of 5 Megawatts or Less).

2. Steels Pond Hydro LLC, located at 230 Park Avenue, Suite 447, New York, New York 10169 is now the co-exemptee of the Steels Pond Project No. 3265 with the New Hampshire Water Resource Board.

Dated: July 18, 2024.
Debbie-Anne A. Reese,
Acting Secretary.

[FR Doc. 2024-16297 Filed 7-24-24; 8:45 am]

BILLING CODE 6717-01-P